CORPORATION FOR NATIONAL AND COMMUNITY SERVICE

Agency Information Collection Activities; Submission to the Office of Management and Budget for Review and Approval; Comment Request; Application Package for the Day of Service Project Collection Tool

AGENCY: Corporation for National and Community Service (CNCS).

ACTION: Notice of information collection; request for comment.

SUMMARY: In accordance with the Paperwork Reduction Act of 1995, CNCS is proposing to renew an information collection for the Day of Service Project Collection Tool.

DATES: Written comments must be submitted to the individual and office listed in the ADDRESSES section by April 2, 2018.

ADDRESSES: You may submit comments, identified by the title of the information collection activity, by any of the following methods:

(1) By mail sent to: Corporation for National and Community Service, Attention David Sherman, 250 E Street SW, Washington, DC 20525.

(2) By hand delivery or by courier to the CNCS mailroom at the mail address given in paragraph (1) above, between 9:00 a.m. and 4:00 p.m. Eastern Time, Monday through Friday, except federal holidays.

(3) Electronically through www.regulations.gov.

Individuals who use a telecommunications device for the deaf (TTY-TDD) may call 1-800-833-3722 between 8:00 a.m. and 8:00 p.m. Eastern Time, Monday through Friday.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public notwithstanding the inclusion of the routine notice.

FOR FURTHER INFORMATION CONTACT: David Sherman, 202-606-6986, or by email at dsherman@cns.gov.

SUPPLEMENTARY INFORMATION: Title of Collection: Day of Service Project Collection Tool.

OMB Control Number: 3045-0122.

Type of Review: Renewal.

Respondents/Affected Public: Any person or group organizing a service project in conjunction with a CNCS initiative.

Total Estimated Number of Annual Respondents: 100,000.

Total Estimated Annual Frequency: Six times annually.

Total Estimated Average Response Time per Response: Average is 10 minutes.

Total Estimated Number of Annual Burden Hours: 100,000 hours

Total Burden Cost (capital/startup): None.

Total Burden Cost (operating/maintenance): None.

Abstract: Currently CNCS is soliciting comments concerning its proposed renewal of Day of Service project promotion tool. Individuals organizing a volunteer event will be able to register their projects. This group includes national service grantees, corporations, volunteer organizations, and individuals. The Corporation wants to help promote activities across the country and also to be able to assess impact of the Corporation's initiatives. Information provided is purely voluntary and will not be used for any grant or funding support.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: January 29, 2018.
Marc Young,
Acting Chief of External Affairs.

[FR Doc. 2018-02019 Filed 1-31-18; 8:45 am]

BILLING CODE 6050-28-P